DEPARTMENT OF TRANSPORTATION

[Docket No. DOT-OST-2023-0166]

Transportation Services for Individuals With Disabilities: ADA Standards for Transportation Facilities

AGENCY: Department of Transportation (DOT).

ACTION: Extension of comment period.

SUMMARY: The U.S. Department of Transportation (DOT, or Department) is extending through February 20, 2024 the period for interested persons to submit comments to its request for information on whether to amend the accessibility requirements for transportation facilities under the Americans with Disabilities Act of 1990 (ADA) currently contained in appendix A to DOT's regulations governing transportation services for individuals with disabilities.

DATES: The comment period for the notice published November 6, 2023, at 88 FR 76272, is extended. Comments should be submitted on or before February 20, 2024. Late-filed comments will be considered to the extent practicable.

ADDRESSES: You may file comments identified by docket number OST-2023-0166 by any of the following methods:

• Federal eRulemaking Portal: Go to https://www.regulations.gov and follow the online instructions for submitting comments.

• Mail: Docket Operations, U.S. Department of Transportation, 1200 New Jersey Ave. SE, West Building Ground Floor, Room W12-140, Washington, DC 20590-0001.

• Hand Delivery or Courier: West Building Ground Floor, Room W12-140, 1200 New Jersey Ave. SE, between 9 a.m. and 5 p.m. ET, Monday through Friday, except Federal holidays. Commenters using this method of delivery should contact Docket Services at 202-366-9826 or 202-366-9317 before delivery to ensure staff is available to receive the delivery.

• Fax: (202) 493-2251.

All submissions received must include the agency name and docket number OST-2023-0166. All comments received will be posted without change to www.regulations.gov, including any personal information provided. For information on DOT's compliance with the Privacy Act, please visit https://www.transportation.gov/privacy.

For access to the docket to read background documents or comments received, go to www.regulations.gov at any time and search for docket number OST-2023-0166.

FOR FURTHER INFORMATION CONTACT: For general questions, Holly Ceasar-Fox, DOT Office of General Counsel, (202) 366-7420 or holly.ceasarfox@dot.gov. For program questions related to transit, John Day, FTA Office of Civil Rights, (202) 366-1671 or john.day@dot.gov. For legal questions related to transit, Bonnie Graves, FTA Office of Chief Counsel, (202) 366-0944 or bonnie.graves@dot.gov. For questions related to intercity or high-speed rail, Alana Kuhn, FRA Office of Chief Counsel, (202) 493-0842 or alana.kuhn@dot.gov.

SUPPLEMENTARY INFORMATION: On November 6, 2023, the Department of Transportation (Department) published a request for information (RFI) in the Federal Register seeking input from the public on whether to propose amendments to the Department's standards for transportation facilities under its regulations implementing the transportation provisions of the Americans with Disabilities Act of 1990 (ADA) to improve accessibility and equity for persons with disabilities. (88 FR 76272)

The Department proposed a series of questions to guide public input to areas of interest to the Department, and invited comment on means to improve other aspects of the existing standards for buildings and facilities.

Since the publication of the RFI, commenters have requested that the Department extend the comment period given the complexity of the issues for which comment is being sought. The American Public Transportation Association (APTA) requested an extension of 30 days. The National Railroad Passenger Corporation (Amtrak) requested an extension of 45 days.

The Department has reviewed the requests for extension of the comment period, and by this notice extends the comment period for the RFI from January 5, 2024, to February 20, 2024. The Department believes that granting this extension of the original comment period is sufficient to allow stakeholders to conduct a thorough and careful consideration of the request for information and prepare comments.

All interested parties are encouraged to provide input in response to the RFI. Submissions are strictly voluntary. Individuals or entities providing comments should state their role as well as knowledge of and experience with the ADA in a transportation environment. DOT may request additional clarifying information from any or all respondents. If a respondent does not wish to be contacted by DOT for additional information, a statement to that effect should be included in the response. All information submitted should be unclassified and should not contain proprietary information, as it will be posted to www.regulations.gov without changes.

DOT is not obligated to officially respond to the information received, but the responses will assist DOT in its consideration of whether to revise the ADA standards for transportation buildings and facilities.

Comments may be submitted and viewed at Docket No. DOT-OST-2023-0166 at https://www.regulations.gov.

Signed pursuant to authority delegated at 49 CFR 1.27(a) on December 19, 2023.

Subash S. Iyer,
Acting General Counsel, Department of Transportation.

[FR Doc. 2023-28332 Filed 12-22-23; 8:45 am]

BILLING CODE P